DEPARTMENT OF THE INTERIOR

National Park Service

White-tailed Deer Management Plan, Final Environmental Impact Statement, Valley Forge National Historical Park, PA

AGENCY: National Park Service, Department of the Interior.

ACTION: Notice of Availability of the Final Environmental Impact Statement for the White-tailed Deer Management Plan, Valley Forge National Historical Park.

SUMMARY: Pursuant to the National Environmental Policy Act of 1969, as amended, the National Park Service (NPS) announces the availability of the Final Environmental Impact Statement (FEIS) for the White-tailed Deer Management Plan for Valley Forge National Historical Park, Pennsylvania. The purpose of the FEIS is to evaluate a range of alternatives for establishing a white-tailed deer management plan that supports forest regeneration and provides for long-term protection, preservation, and restoration of native vegetation and other natural and cultural resources. The FEIS evaluates four alternatives for managing white-tailed deer in the park. Alternatives for response to chronic wasting disease (CWD) have been integrated into each deer management alternative to address the elevated risk of disease in proximity to the park and because of the efficiencies and cost savings associated with incorporating CWD response into the deer management plan. The FEIS describes and analyzes the environmental impacts of three action alternatives and the no-action alternative. The FEIS responds to, and incorporates, agency and public comments received on the Draft White-tailed Deer Management Plan/Environmental Impact Statement, which was available for public review from December 19, 2008 through February 17, 2009. Agency and public comments with NPS responses are provided as Appendix F of the FEIS. When approved, the plan will guide deer management actions over the next 15 years.

DATES: No sooner than 30 days following publication of the Environmental Protection Agency's Notice of Availability of the FEIS in the Federal Register, the Northeast Regional Director will sign a Record of Decision that will document NPS approval of the FEIS and identify the alternative selected for implementation.

ADDRESSES: The White-tailed Deer Management Plan/FEIS will be available online through the NPS Planning, Environment, and Public Comment (PEPC) Web site at http://parkplanning.nps.gov/vafo. A limited number of hard copies will be available at the Valley Forge National Historical Park Visitor Center located at the intersection of North Gulph Road and Route 23 and at the Lower Providence Community Library (50 Parklane Drive, Eagleville, PA 19403-1171), Tredyffrin Public Library (582 Upper Gulph Road, Strafford-Wayne, PA 19087-2052), Phoenixville Public Library (183 Second Avenue, Phoenixville, PA 19460), Upper Merion Township Library (175 West Valley Forge Road, King of Prussia, PA 19406) and Montgomery County-Norristown Public Library (1001 Powell Street, Norristown, PA 19401). You may request a hardcopy or CD by contacting Kristina M. Heister, Valley Forge National Historical Park, at the phone or address provided below.

FOR FURTHER INFORMATION CONTACT: Kristina M. Heister, Natural Resource Manager, Valley Forge National Historical Park, 1400 North Outer Line Drive, King of Prussia, PA 19406, (610) 783-0252.

SUPPLEMENTARY INFORMATION: Development of the Environmental Impact Statement for the White-tailed Deer Management Plan for Valley Forge National Historical Park was initiated in 2006, pursuant to the 2006 House Appropriations Report (HR 109-465): “The public has been patient as the NPS has worked through its process in regard to management of the over-abundance of white-tailed deer at the park. Within existing funds, NPS is directed to begin the environmental impact statement for deer management. The Committee expects that the plan will be funded fully so that it can be completed in fiscal year 2008. The Committee further expects that implementation of the selected action will begin immediately upon signing of the Record of Decision.”

A Notice of Intent to prepare a deer management plan and environmental impact statement was published in the Federal Register on September 7, 2006. Extensive agency and public scoping was conducted and the Draft White-Tailed Deer Management Plan/Environmental Impact Statement (DEIS) was released on December 19, 2008 for a 60-day public review period that ended on February 17, 2009. Two public meetings were held in January, 2009. During the comment period, 1,168 pieces of correspondence were received, from which 3,884 comments were derived. Agency and public comments received on the DEIS were carefully reviewed and incorporated into the FEIS.

The FEIS evaluates four alternatives for managing white-tailed deer in the park. The document describes and analyzes the environmental impacts of three action alternatives and the no-action alternative.

Alternatives: Alternative A (no action) would continue the existing deer management activities of monitoring deer population size and vegetation, small scale fencing of selected vegetation, removal of deer killed on roadways, public education, coordination with the Pennsylvania Game Commission, and continuation of limited CWD surveillance; no new deer management actions would be implemented.

Alternative B would combine several non-lethal actions, including large-scale rotational fencing of 10% to 15% of the park's forested area and reproductive control of does to gradually reduce deer population in the park. Chronic wasting disease surveillance would include live testing (via tonsillar biopsy) and removal of CWD-positive individuals.

Under Alternative C, qualified federal employees or contractors would directly reduce the deer population in the park through sharpshooting and through capture and euthanasia, where appropriate. CWD response would include rapid reduction of the deer population to the target deer density and the potential for a one-time reduction action to not less than 10 deer per square mile through sharpshooting and through capture and euthanasia. These actions would be taken for the purposes of assessing disease presence, prevalence, and distribution. These actions may also minimize the likelihood of CWD becoming established, minimize the likelihood of amplification and spread if the disease is introduced, and promote elimination of CWD, if possible.

Alternative D, the NPS Preferred Alternative, would combine actions of Alternative C to directly reduce the deer population with reproductive control of does as under Alternative B to maintain population levels. CWD response actions would be the same as described for Alternative C.

Changes to the FEIS as a result of public comment on the DEIS consist of factual updates to baseline data and clarifications added to the text. No changes were made to the preferred alternative or other alternatives evaluated nor was the outcome of the impact analysis changed. Agency and public comments received on the DEIS with NPS responses are provided as Appendix F of the FEIS.

Dennis R. Reidenbach,
Regional Director, Northeast Region, National Park Service.

[FR Doc. E9-17807 Filed 7-24-09; 8:45 am]

BILLING CODE 4310-DJ-P